DEPARTMENT OF COMMERCE

Foreign-Trade Zones Board

[B-57-2012]

Foreign-Trade Zone 43—Battle Creek, MI; Application for Reorganization Under Alternative Site Framework

An application has been submitted to the Foreign-Trade Zones (FTZ) Board (the Board) by the City of Battle Creek, Michigan, grantee of FTZ 43, requesting authority to reorganize the zone under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 30, 2012.

FTZ 43 was approved by the Board on October 19, 1978 (Board Order 138, 43 FR 50233, 10-27-1978) and expanded on December 27, 1990 (Board Order 496, 56 FR 675, 1-8-1991); January 3, 1992 (Board Orders 554 and 555, 57 FR 1143, 1-10-1992); and, June 20, 1997 (Board Orders 897 and 898, 62 FR 36043-36044, 7-3-1997).

The current zone project includes the following sites: Site 1 (1,710 acres)—Fort Custer Industrial Park, adjacent to W.K. Kellogg Airport, Battle Creek, Calhoun County; and, Site 8 (.87 acres)—Silver Foam Distributing Company, 1609 Parnall Road, Jackson, Jackson County.

The grantee's proposed service area under the ASF would be Allegan, Barry, Berrien, Branch, Calhoun, Cass, Clinton, Eaton, Ingham, Ionia, Jackson, Kalamazoo, St. Joseph and Van Buren Counties, Michigan, as described in the application. If approved, the grantee would be able to serve sites throughout the service area based on companies' needs for FTZ designation. The proposed service area is within and adjacent to the Battle Creek Customs and Border Protection port of entry.

The applicant is requesting authority to reorganize its existing zone project to include existing Site 1 as a “magnet” sites and existing Site 8 as a “usage-driven” site. The application would have no impact on FTZ 43's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is October 2, 2012. Rebuttal comments in response to material submitted during the foregoing period may be submitted during the subsequent 15-day period to October 17, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: July 30, 2012.
Andrew McGilvray,
Executive Secretary.

[FR Doc. 2012-19061 Filed 8-2-12; 8:45 am]

BILLING CODE P